DEPARTMENT OF ENERGY

Federal Energy Regulatory Commission

Notice of Application Accepted for Filing and Soliciting Motions To Intervene and Protests

January 11, 2001.

Take notice that the following hydroelectric application has been filed with the Commission and is available for public inspection:

a. Type of Application: New Major License.

b. Project No.: 2031-046.

c. Date Filed: August 30, 2000.

d. Applicant: Springville City.

e. Name of Project: Bartholomew Hydroelectric Project.

f. Location: Northeast of Springville City, within Bartholomew Canyon and on Hobble Creek, in Utah County, Utah. The project is partially situated on federal lands within the Unita National Forest.

g. Filed Pursuant to: Federal Power Act, 16 U.S.C. 791(a)-825(r).

h. Applicant Contact: Matthew Cassel at Psomas Consultants, 2825 East Cottonwood Parkway, #120, Salt Lake City, Utah 84121; (801) 270-5777.

i. FERC Contact: Jim Haimes, james.haimes@ferc.fed.us; (202) 219-2780.

j. Deadline for Filing Motions to Intervene and Protest: 60 days from the issuance date of this notice.

All documents (original and eight copies) should be filed with: David P. Boergers, Secretary, Federal Energy Regulatory Commission, 888 First Street, NE, Washington, DC 20426. Comments and protests may be filed electronically via the internet in lieu of paper. See, 18 CFR 385.2001(a)(1)(iii) and the instructions on the Commission's web site at http://www.ferc.fed.us/efi/doorbell.htm.

The Commission's Rules of Practice and Procedure require all persons and entities filing requests to intervene in the subject proceeding to serve a copy of each document they file with the Commission on each person on the official service list for the subject project. Further, if an intervener files comments or documents with the Commission relating to the merits of an issue that may affect the responsibilities of a particular resource agency, they must also serve a copy of the document on that resource agency.

k. This application is not ready for environmental analysis at this time.

l. Description of the Project: The project, which does not include a dam or reservoir, operates using relatively small quantities of water removed from underground springs or small creeks located at high elevations and then transported via buried penstocks to three powerhouses and a powerhouse addition having a combined installed capacity of 2,000 kilowatts (kW). The project produces an average of approximately 4,653,000 kilowatt-hours of energy per year, primarily during the high runoff season each spring. Flows used to generate electricity either are diverted to the licensee's water distribution system for domestic and industrial consumption or are released into Hobble Creek.

The project also includes the following two transmission facilities: (1) A 5.9-mile-long line, which includes one 1-mile-long, underground segment and a 4.9-mile-long overhead segment, from Upper Bartholomew powerhouse to Hobble Creek powerhouse; and (2) a 6.9-mile-long, 12.47-kilovolt, underground cable from Lower Bartholomew powerhouse to Springville City's electric distribution system.

Although there are no developed recreational facilities within the boundaries of the subject project, Springville City owns and operates a 200-unit campground and an 18-hole golf course in the general vicinity of Hobble Creek powerhouse. In addition, the Rotary Club operates a park on City-owned property. This facility includes a ball field and a picnic area with approximately 20 tables/grills. Further, the Forest Service operates two small campgrounds along the right fork Hobble Creek.

m. A copy of the application is available for inspection and reproduction at the Commission's Public Reference Room, Room 2A, located at 888 First Street, NE, Washington, DC 20426, or by calling (202) 208-1371. The application may be viewed on the web at http://www.ferc.fed.us/online/rims.htm (call (202) 208-2222 for assistance). A copy is also available for inspection and reproduction at the address in item h above.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

o. All filings must: (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the subject application.

David P. Boergers,
Secretary.

[FR Doc. 01-1426 Filed 1-17-01; 8:45 am]

BILLING CODE 6717-01-M